DEPARTMENT OF ENERGY

Federal Energy Regulatory Commission

Combined Notice of Filings #1

Take notice that the Commission received the following electric rate filings:

Docket Numbers: ER22-1201-001.

Applicants: Niagara Mohawk Power Corporation, New York Independent System Operator, Inc.

Description: Tariff Amendment: Niagara Mohawk Power Corporation submits tariff filing per 35.17(b): NMPC Deficiency Response: Smart Path Cost Recovery and Incentive Rate filing to be effective 5/4/2022.

Filed Date: 5/16/22.

Accession Number: 20220516-5073.

Comment Date: 5 p.m. ET 6/6/22.

Docket Numbers: ER22-1420-002.

Applicants: PJM Interconnection, L.L.C.

Description: Tariff Amendment: Amend Hybrid Resources Revisions in ER22-1420, Request 5-Day Comment Period to be effective 7/13/2022.

Filed Date: 5/13/22.

Accession Number: 20220513-5147.

Comment Date: 5 p.m. ET 5/23/22.

Docket Numbers: ER22-1874-000.

Applicants: Duke Energy Carolinas, LLC.

Description: § 205(d) Rate Filing: DEC-NTE Carolinas II, LLC—SA No. 491 to be effective 5/14/2022.

Filed Date: 5/13/22.

Accession Number: 20220513-5161.

Comment Date: 5 p.m. ET 6/3/22.

Docket Numbers: ER22-1875-000.

Applicants: RE Gaskell West 2 LLC.

Description: Compliance filing: Gaskell West 2 Revised MBR Filing to be effective 5/14/2022.

Filed Date: 5/13/22.

Accession Number: 20220513-5167.

Comment Date: 5 p.m. ET 6/3/22.

Docket Numbers: ER22-1876-000.

Applicants: RE Gaskell West 3 LLC.

Description: Compliance filing: Gaskell West 3 Revised MBR Filing to be effective 5/14/2022.

Filed Date: 5/13/22.

Accession Number: 20220513-5169.

Comment Date: 5 p.m. ET 6/3/22.

Docket Numbers: ER22-1877-000.

Applicants: Midcontinent Independent System Operator, Inc.

Description: § 205(d) Rate Filing: 2022-05-16_SA 3829 OTP-Crowned Ridge Wind FSA (J722) to be effective 7/16/2022.

Filed Date: 5/16/22.

Accession Number: 20220516-5070.

Comment Date: 5 p.m. ET 6/6/22.

Docket Numbers: ER22-1878-000.

Applicants: Sanford ESS, LLC.

Description: Baseline eTariff Filing: Sanford ESS MBR Application to be effective 6/1/2022.

Filed Date: 5/16/22.

Accession Number: 20220516-5106.

Comment Date: 5 p.m. ET 6/6/22.

Docket Numbers: ER22-1879-000.

Applicants: South Portland ESS, LLC.

Description: Baseline eTariff Filing: South Portland ESS MBR Application to be effective 6/1/2022.

Filed Date: 5/16/22.

Accession Number: 20220516-5108.

Comment Date: 5 p.m. ET 6/6/22.

Docket Numbers: ER22-1880-000.

Applicants: ISO New England Inc.

Description: ISO New England Inc. Capital Budget Quarterly Filing for First Quarter of 2022.

Filed Date: 5/12/22.

Accession Number: 20220512-5172.

Comment Date: 5 p.m. ET 6/2/22.

Docket Numbers: ER22-1881-000.

Applicants: Pacific Gas and Electric Company.

Description: Tariff Amendment: Termination of Oakland Energy Storage 1, LLC E&P Agreement (SA 2100 EP-27) to be effective 7/16/2022.

Filed Date: 5/16/22.

Accession Number: 20220516-5151.

Comment Date: 5 p.m. ET 6/6/22.

Docket Numbers: ER22-1882-000.

Applicants: VESI 10 LLC.

Description: Baseline eTariff Filing: Petition for Approval of Initial Market-Based Rate Tariff to be effective 5/17/2022.

Filed Date: 5/16/22.

Accession Number: 20220516-5187.

Comment Date: 5 p.m. ET 6/6/22.

Docket Numbers: ER22-1883-000.

Applicants: Ledyard Windpower, LLC.

Description: Baseline eTariff Filing: Ledyard Windpower, LLC—Market-Based Rates Authorization Request to be effective 7/16/2022.

Filed Date: 5/16/22.

Accession Number: 20220516-5195.

Comment Date: 5 p.m. ET 6/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2022.
Debbie-Anne A. Reese,
Deputy Secretary.

[FR Doc. 2022-10919 Filed 5-19-22; 8:45 am]

BILLING CODE 6717-01-P